DEPARTMENT OF LABOR

Occupational Safety and Health Administration

[Docket No. OSHA-2013-0017]

QAI Laboratories, LTD.: Grant of Recognition as a Nationally Recognized Testing Laboratory

AGENCY: Occupational Safety and Health Administration (OSHA), Labor.

ACTION: Notice.

SUMMARY: In this notice, OSHA announces its final decision to grant recognition to QAI Laboratories, LTD., as a Nationally Recognized Testing Laboratory (NRTL).

DATES: Recognition as an NRTL becomes effective on December 19, 2014.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: meilinger.francis2@dol.gov.

General and technical information: Contact Mr. Kevin Robinson, Acting Director, Office of Technical Programs and Coordination Activities, Directorate of Technical Support and Emergency Management, Occupational Safety and Health Administration, U.S. Department of Labor, 200 Constitution Avenue NW., Room N-3655, Washington, DC 20210; telephone: (202) 693-2110; email: robinson.kevin@dol.gov. OSHA's Web page includes information about the NRTL Program (see http://www.osha.gov/dts/otpca/nrtl/index.html).

SUPPLEMENTARY INFORMATION:

I. Background

Many of OSHA's workplace standards require that an NRTL test and certify certain types of equipment as safe for use in the workplace. NRTLs are independent laboratories that meet OSHA's requirements for performing safety testing and certification of products used in the workplace. To obtain and retain OSHA recognition, NRTLs must meet the requirements in the NRTL Program regulations at 29 CFR 1910.7. More specifically, to be recognized by OSHA, an organization must: (1) Have the appropriate capability to test, evaluate, and approve products to assure their safe use in the workplace; (2) be completely independent of employers subject to the tested equipment requirements, and manufacturers and vendors of products for which OSHA requires certification; (3) have internal programs that ensure proper control of the testing and certification process; and (4) have effective reporting and complaint handling procedures. Recognition is an acknowledgement by OSHA that the NRTL has the capability to perform independent safety testing and certification of the specific products covered within the NRTL's scope of recognition, and is not a delegation or grant of government authority. Recognition of an NRTL by OSHA also allows employers to use products certified by that NRTL to meet those OSHA standards that require product testing and certification.

The Agency processes applications for initial recognition following requirements in Appendix A of 29 CFR 1910.7. This appendix requires OSHA to publish two notices in the Federal Register in processing an application. In the first notice, OSHA announces the application, provides its preliminary finding, and solicits comments on its preliminary findings. In the second notice, the Agency provides its final decision on the application. These notices set forth the NRTL's scope of recognition.

II. Notice of Final Decision

OSHA hereby gives notice of the Agency's decision to grant recognition to QAI Laboratories, LTD. (QAI), as an NRTL. According to public information (see http://qai.org/about-us/), QAI states that it was founded in 1994 by a group of certification and testing experts, and it is an independent third-party testing, inspection and certification organization which serves the building industry, government and individuals with solutions through its in-house capabilities/services, and a world-wide network of qualified affiliates. In its application, QAI lists the current address of its headquarters as: QAI Laboratories, LTD., #16—211 Schoolhouse Street, Coquitlam, British Columbia, Canada V3K 4X9.

Each NRTL's scope of recognition has three elements: (1) The type of products the NRTL may test, with each type specified by its applicable test standard; (2) the recognized site(s) that have the technical capability to perform the product-testing and product-certification activities for the applicable test standards within the NRTL's scope of recognition; and (3) the supplemental program(s) that the NRTL may use, each of which allows the NRTL to rely on other parties to perform activities necessary for testing and certification. QAI applied for initial recognition as an NRTL on May 28, 2013. In its application, QAI requested recognition for three test standards, two sites, and one supplemental program (OSHA—2013-0017-0002, Exhibit 14-1—QAI Initial Application for Recognition). OSHA published the preliminary notice announcing QAI's application for recognition in the Federal Register on August 29, 2014 (79 FR 51621). The Agency requested comments by September 29, 2014.

OSHA received one anonymous comment in response to this notice (OSHA-2013-0017-0003). The comment (OSHA-2013-0017-0003) asked how OSHA ensures the applicant maintains its technical qualifications as well as the financial resources necessary to ensure only compliant products are certified. OSHA's NRTL regulations (29 CFR 1910.7(b)(1)) require OSHA to verify that the applicant “has the capability (including proper testing equipment and facilities, trained staff, written testing procedures, and calibration and quality control programs)” to perform testing and certification activities. As part of the application process, OSHA reviewed QAI's procedures and conducted on-site assessments at both of its sites. OSHA determined that QAI had the necessary capabilities and resources to perform testing and certification activities. OSHA will conduct periodic on-site assessments, just as it does with all NRTLs, to ensure that QAI maintains the capability to perform testing and certification activities in accordance with OSHA NRTL regulations and policies.

To obtain or review copies of all public documents pertaining to QAI's application, go to www.regulations.gov or contact the Docket Office, Occupational Safety and Health Administration, U.S. Department of Labor, 200 Constitution Avenue NW., Room N-2625, Washington, DC 20210. Docket No. OSHA-2013-0017 contains all materials in the record concerning QAI's recognition.

III. Final Decision and Order

OSHA staff performed a detailed analysis of QAI's application packet and reviewed other pertinent information. OSHA staff also performed comprehensive on-site assessments of QAI's testing facilities from February 24, 2014 through February 26, 2014. Based on its review of this evidence, OSHA finds that QAI meets the requirements of 29 CFR 1910.7 for recognition as an NRTL, subject to the limitations and conditions listed below. OSHA, therefore, is proceeding with this final notice to grant recognition to QAI as an NRTL. The following sections set forth the scope of recognition included in QAI's grant of recognition.

A. Standards Requested for Recognition

OSHA limits QAI's scope of recognition to testing and certification of products for demonstration of conformance to the test standards listed in Table 1 below.

Table 1—List of Appropriate Test Standards for Inclusion in QAI's NRTL Scope of Recognition
Test standard | Test standard title
UL 10B | Fire Tests of Door Assemblies.
UL 10C | Positive Pressure Fire Tests of Door Assemblies.
UL 1598 | Luminaires.

OSHA's recognition of any NRTL for a particular test standard is limited to equipment or materials for which OSHA standards require third-party testing and certification before using them in the workplace. Consequently, if a test standard also covers any products for which OSHA does not require such testing and certification, an NRTL's scope of recognition does not include these products.

The American National Standards Institute (ANSI) may approve the test standards listed above as American National Standards. However, for convenience, we may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

B. Sites Requested for Recognition

OSHA limits QAI's scope of recognition to include the sites at:

1. QAI Coquitlam, #16—211 Schoolhouse Street, Coquitlam, British Columbia, CANADA V3K 4X9; and

2. QAI Los Angeles, 8385 White Oak Avenue, Rancho Cucamonga, California 91730.

OSHA's recognition of these sites limits QAI to performing product testing and certifications only to the test standards for which the site has the proper capability and programs, and for test standards in QAI's scope of recognition. This limitation is consistent with the recognition that OSHA grants to other NRTLs that operate multiple sites.

C. Supplemental Programs

OSHA limits QAI's scope of recognition to include the following supplemental program:

Program 9: Acceptance of services other than testing or evaluation performed by subcontractors or agents (for calibration services only).

A. Conditions

In addition to those conditions already required by 29 CFR 1910.7, QAI also must abide by the following conditions of the recognition:

1. QAI must inform OSHA as soon as possible, in writing, of any change of ownership, facilities, or key personnel, and of any major change in its operations as an NRTL, and provide details of the change(s);

2. QAI must meet all the terms of its recognition and comply with all OSHA policies pertaining to this recognition; and

3. QAI must continue to meet the requirements for recognition, including all previously published conditions on QAI's scope of recognition, in all areas for which it has recognition.

Pursuant to the authority in 29 CFR 1910.7, OSHA hereby grants recognition to QAI as an NRTL, subject to the limitations and conditions specified above.

IV. Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on December 15, 2014.
David Michaels,
Assistant Secretary of Labor for Occupational Safety and Health.

[FR Doc. 2014-29731 Filed 12-18-14; 8:45 am]

BILLING CODE 4510-26-P